FEDERAL MARITIME COMMISSION

Ocean Transportation Intermediary Licenses; Correction

In the OTI Applicant Notice published in the Federal Register on December 28, 2006 (71 FR 78206) reference to the name of the Cane Freight, Inc. is corrected to read:

“Carie Freight, Inc.”

Dated: March 2, 2007.
Bryant L. VanBrakle,
Secretary.

[FR Doc. E7-4107 Filed 3-7-07; 8:45 am]

BILLING CODE 6730-01-P